DEPARTMENT OF COMMERCE

National Oceanic and Atmospheric Administration

[RTID 0648-XC414]

South Atlantic Fishery Management Council; Public Meetings

AGENCY: National Marine Fisheries Service (NMFS), National Oceanic and Atmospheric Administration (NOAA), Commerce.

ACTION: Notice of a public meeting.

SUMMARY: The South Atlantic Fishery Management Council will hold a meeting of the Scientific and Statistical Committee (SSC) from October 25 to October 27, 2022, in Charleston, SC.

DATES: The SSC meeting will be held from 8:30 a.m. until 5 p.m. EDT on October 25th and October 26th, and from 8:30 a.m. until 12 p.m. on October 27, 2022.

ADDRESSES:

Meeting address: The meeting will be held at the Town & Country Inn, 2008 Savannah Highway, Charleston, SC 29407; phone: (843) 571-1000. The meeting will also be available via webinar as it occurs. Registration is required. Webinar registration information, an online public comment form, and briefing book materials will be available two weeks prior to the meetings at: https://safmc.net/scientific-and-statistical-committee-meeting/.

Council address: South Atlantic Fishery Management Council, 4055 Faber Place Drive, Suite 201, N Charleston, SC 29405.

FOR FURTHER INFORMATION CONTACT: Judd Curtis, SAFMC; phone: (843) 302-8441; fax: (843) 769-4520; email: judd.curtis@safmc.net.

SUPPLEMENTARY INFORMATION: The SSC meeting agenda topics will include: SSC review and discussion of the NOAA Fisheries Southeast Fishery Science Center (SEFSC) interim analysis strategy, management strategy evaluation (MSE) model for the snapper grouper fishery, an update from the NOAA Fisheries National MSE Technical Workgroup, red snapper recruitment patterns in the South Atlantic, SEFSC project on minimizing discards in the snapper grouper fishery, Release Mortality Reduction Framework Amendment 35 to the Snapper Grouper Fishery Management Plan, Spanish mackerel revised operational assessment review, greater amberjack estimation project update, review of terms of reference and Southeast Data Assessment and Review (SEDAR) schedule for golden tilefish and blueline tilefish, report on the National SSC meeting, Stock Assessment and Fishery Evaluation (SAFE) reports review, fishery management plan amendment updates, and other business as needed.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: September 29, 2022.
Rey Israel Marquez,
Acting Deputy Director, Office of Sustainable Fisheries, National Marine Fisheries Service.

[FR Doc. 2022-21515 Filed 10-3-22; 8:45 am]

BILLING CODE 3510-22-P